DEPARTMENT OF COMMERCE

National Oceanic and Atmospheric Administration

[I.D. 122303J]

Marine Mammals; File No. 1048-1717

AGENCY: National Marine Fisheries Service (NMFS), National Oceanic and Atmospheric Administration (NOAA), Commerce.

ACTION: Issuance of permit.

SUMMARY: Notice is hereby given that Dr. Peter J. Stein, Scientific Solutions, Inc., Nashua, New Hampshire, has been issued a permit to take the marine mammals listed below for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376, www.nmfs.noaa.gov/prot_res; and

Southwest Region, NMFS, 501 West Ocean Blvd., Suite 4200, Long Beach, CA 90802-4213; phone (562)980-4001; fax (562)980-4018.

FOR FURTHER INFORMATION CONTACT: Tammy Adams or Steve Leathery, (301)713-2289.

SUPPLEMENTARY INFORMATION: On November 5, 2003, notice was published in the Federal Register (68 FR 62563) that a request for a scientific research permit to take gray whales (Eschrtictius robustus), endangered blue whales (Balaenoptera musculus), endangered fin whales (B. physalus), endangered humpback whales (Megaptera novaeangliae), minke whales (B. acutorostrata), endangered sei whales (B. borealis), endangered sperm whales (Physeter macrocephalus), harbor porpoise (Phocoena phocoena), Dall's porpoise (Phocoenoides dalli), Pacific white-sided dolphins (Lagenorhynchus obliquidens), bottlenose dolphins (Tursiops truncatus), Risso's dolphins (Grampus griseus), short-beaked common dolphins (Delphinus delphis), northern right whale dolphins (Lissodephis borelais), killer whales (Orcinus orca), short-finned pilot whales (Globicephala macrorhynchus), Baird's beaked whales (Berardius bairdii), mesoplodont beaked whales (Mesoplodon spp.), Cuvier's beaked whales (Ziphius cavirostris), California sea lions (Zalophus californianus), harbor seals (Phoca vitulina), threatened Guadalupe fur seals (Arctocephalus townsendi), northern elephant seals (Mirounga angustirostris), northern fur seals (Callorhinus ursinus), and threatened Steller sea lions (Eumetopias jubatus) had been submitted by the above-named individual and that a draft environmental assessment had been prepared on the proposed research. An EA has been prepared with a finding of no significant impact. The requested permit has been issued under the authority of the Marine Mammal Protection Act of 1972, as amended (16 U.S.C. 1361 et seq.), and the Regulations Governing the Taking and Importing of Marine Mammals (50 CFR part 216).

The permit authorizes Dr. Stein to expose up to 1200 gray whales, 200 minke whales, 150 harbor porpoise, 150 Dall's porpoise, 400 Pacific white-sided dolphin, 150 bottlenose dolphin, 2000 Risso's dolphin, 2000 short-beaked common dolphin, 1200 northern right whale dolphin, 200 killer whales, 200 short-finned pilot whales, 30 Baird's beaked whales, 30 Cuvier's beaked whales, 30 Mesoplodont beaked whales, 500 California sea lions, 500 harbor seals, 500 northern elephant seals, and 200 northern fur seals to sounds from low-power high-frequency “whale-finder” sonars per year offshore of central California. The purpose of the proposed research is to validate and improve the ability of whale-finder sonar systems to detect marine mammals without adversely affecting them.

Dated: December 24, 2003.
Tammy C. Adams,
Acting Chief, Permits, Conservation and Education Division, Office of Protected Resources, National Marine Fisheries Service.

[FR Doc. 04-91 Filed 1-2-04; 8:45 am]

BILLING CODE 3510-22-S